FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 28, 2012.

A. Federal Reserve Bank of Atlanta (Chapelle Davis, Assistant Vice President) 1000 Peachtree Street NE., Atlanta, Georgia 30309:

1. Guice Slawson, Jr., Joe Stinson Slawson, and William Edgar Slawson, all of Montgomery, Alabama; to collectively acquire voting shares of FEB Bancshares, Inc., and thereby indirectly acquire voting shares of Farmers Exchange Bank, both in Louisville, Alabama.

B. Federal Reserve Bank of Minneapolis (Jacqueline G. King, Community Affairs Officer) 90 Hennepin Avenue, Minneapolis, Minnesota 55480-0291:

1. MVC Private Equity Fund, LP, Purchase, NY; MVC GP II, LLC; MVC Financial Services, Inc.; MVC Partners LLC; MVC Capital, Inc.; The Tokarz Group Advisors LLC; Michael Tokarz, all of Purchase, New York; and James Pinto, Greenwich, Connecticut (collectively “MVC”); to acquire voting shares of BNCCORP, Inc., Bismarck, North Dakota, and thereby indirectly acquire voting shares of BNC National Bank, Glendale, Arizona.

2. MVC; Prairie Petroleum Inc., and William Coleman, both of Denver, Colorado; Eugene Nicholas, Cando, North Dakota; Timothy Dodd and Bradley Fey, both of Bismarck, North Dakota; Jeffrey Topp, Grace City, North Dakota; Janet Topp, Grace City, North Dakota; and Roger Kenner, Leeds, North Dakota; as a group acting in concert, to collectively acquire voting shares of BNCCORP, Inc., Bismarck, North Dakota, and thereby indirectly acquire voting shares of BNC National Bank, Glendale, Arizona.

Board of Governors of the Federal Reserve System, August 8, 2012.
Robert deV. Frierson,
Secretary of the Board.

[FR Doc. 2012-19772 Filed 8-10-12; 8:45 am]

BILLING CODE 6210-01-P